DEPARTMENT OF TRANSPORTATION

Federal Railroad Administration

[Docket Number FRA-2018-0041]

Petition for Extension of Waiver of Compliance

Under part 211 of title 49 Code of Federal Regulations (CFR), this document provides the public notice that by letter dated July 1, 2023, the Port Authority Trans-Hudson Corporation (PATH) petitioned the Federal Railroad Administration (FRA) for an extension of a waiver of compliance from certain provisions of the Federal railroad safety regulations contained at 49 CFR part 214 (Railroad Workplace Safety). The relevant Docket Number is FRA-2018-0041.

Specifically, PATH requests continued relief from the definition of “fouling a track” found in 49 CFR 214.7, Definitions, at certain locations within PATH's tunnel system if certain conditions are met. PATH seeks the waiver to allow tunnel bench walls to be considered a “place of safety” under § 214.329, Train approach warning, for the safety and efficiency of roadway maintenance procedures at those locations. When train approach warning or foul time is used as a method of protection, roadway workers may move to a previously arranged place of safety designated as a “Clearance Area.” PATH states that its “physical structure and track configurations within the tunnel system provide many locations where it is physically impossible to clear outside four feet of the near rail.” PATH adds that “the historical use and safety record of bench walls as a place of clearance for close to half of a century without incident show that, under certain conditions, they can be used as a place of safety within the four-foot fouling envelope.” In support of its request, PATH notes that “there have been no known issues raised upon issuance of the waiver and no reported failures of compliance found during inspections.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at http://www.regulations.gov. Follow the online instructions for submitting comments.

Communications received by November 20, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-20202 Filed 9-18-23; 8:45 am]

BILLING CODE P